DEPARTMENT OF VETERANS AFFAIRS

[OMB Control No. 2900-0358]

Agency Information Collection Activity: Supplemental Information for Change of Program or Reenrollment After Unsatisfactory Attendance, Conduct, or Progress

AGENCY: Veterans Benefits Administration, Department of Veterans Affairs

ACTION: Notice

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before June 20, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0358” in any correspondence.

FOR FURTHER INFORMATION CONTACT: Danny S. Green at (202) 421-1354.

SUPPLEMENTARY INFORMATION: Authority: Public Law 104-13; 44 U.S.C. 3501-3521.

Title: Supplemental Information for Change of Program or Reenrollment After Unsatisfactory Attendance, Conduct, or Progress, VA Form 22-8873.

OMB Control Number: 2900-0358.

Type of Review: Reinstatement without change of a previously approved collection.

Abstract: Students use the VA Form 22-8873 to change programs of education or to notify VA that they are making unsatisfactory progress in their programs of education. VA uses the information provided from the current collection to ensure (1) that programs are suitable to a claimant's aptitudes, interests, and abilities and (2) that the cause of any past unsatisfactory attendance, progress, or conduct has been resolved. Without this information, VA could not determine further entitlement to education benefits.

An agency may not conduct or sponsor, and a person is not required to respond to a collection of information unless it displays a currently valid OMB control number. The Federal Register Notice with a 60-day comment period soliciting comments on this collection of information was published at 84 FR 5813 on February 22, 2019, pages 5813 and 5814.

Affected Public: Individual and households.

Estimated Annual Burden: 8,860 hours.

Estimated Average Burden per Respondent: 30 minutes.

Frequency of Response: Annual.

Estimated Number of Respondents: 17,720.

By direction of the Secretary.
Danny S. Green,
VA Interim Clearance Officer, Office of Quality Performance and Risk, Department of Veterans Affairs.

[FR Doc. 2019-10530 Filed 5-20-19; 8:45 am]

BILLING CODE 8320-01-P